DEPARTMENT OF COMMERCE

Foreign-Trade Zones Board

[Docket T-1-2012]

Foreign-Trade Zone 267, Temporary/Interim Manufacturing Authority, CNH America, LLC, Agricultural and Construction Equipment; Notice of Approval

On January 12, 2012, the Executive Secretary of the Foreign-Trade Zones (FTZ) Board filed an application submitted by the Fargo Municipal Airport Authority, grantee of FTZ 267, requesting to expand manufacturing under temporary/interim manufacturing (T/IM) authority to include subassemblies and parts of tractors, combines, and wheel loaders, on behalf of CNH America LLC, within FTZ 267—Site 2, in Fargo, North Dakota.

The application was processed in accordance with T/IM procedures, as authorized by FTZ Board Orders 1347 (69 FR 52857, 8/30/04) and 1480 (71 FR 55422, 9/22/06), including notice in the Federal Register inviting public comment (77 FR 2699, 1/19/2012). The FTZ staff examiner reviewed the application and determined that it meets the criteria for approval under T/IM procedures. Pursuant to the authority delegated to the FTZ Board Executive Secretary in the above-referenced Board Orders, the application is approved, effective this date, until March 22, 2012, subject to the FTZ Act and the Board's regulations, including Section 400.28.

Dated: March 23, 2012.
Andrew McGilvray,
Executive Secretary.

[FR Doc. 2012-7598 Filed 3-29-12; 8:45 am]

BILLING CODE 3510-DS-M